Proclamation 10562 of April 28, 2023

National Foster Care Month, 2023

By the President of the United States of America

A Proclamation

The more than 391,000 American children and youth living in foster care deserve to grow up in safe and loving homes devoted to their health, happiness, and advancement. This month, we honor the absolute courage of young people in foster care, who too often endure challenges that no child should ever have to confront, and we give thanks to the dedicated kinship and foster parents who care for them during their times of greatest need. We recognize the biological parents and families of foster children who work hard to overcome difficult circumstances so they can safely reunite with their children. We also rededicate ourselves to supporting the volunteers and professionals who help America's foster youth find temporary and permanent homes.

Despite the selflessness and service of loving foster parents across the country, children in foster care often face an uphill battle in achieving their full potential. Many carry lasting physical and emotional scars from trauma they experienced at a young age, which can increase their risk of mental health issues or lead to substance use disorders. These challenges are magnified for children of color, who are disproportionately represented in the child welfare system: 1 in 9 Black children and 1 in 7 Native American children spend part of their childhood in foster care. Meanwhile, recent estimates suggest 30 percent of youth in foster care identify as LGBTQI+.

To fulfill our Nation's responsibility to our children, we need to prevent the conditions that lead to kids entering foster care in the first place. My Administration has invested hundreds of millions of dollars in community-based child abuse and neglect prevention programs, and we are requesting an increase from the Congress for these programs. We are also proposing a $5 billion expansion of evidence-based foster care prevention services to allow more children to remain safely in their own homes with their own families. Because poverty can trigger interventions that unnecessarily remove children from their families, we are fighting to restore the expanded Child Tax Credit, which in 2021 helped slash child poverty to its lowest rate ever. And as a dangerous wave of cynical State investigations targets families with transgender children, we will keep working to stop politicians from weaponizing child protective services against loving families who simply want to support their kids and help them to be their authentic selves.

For children and youth already in the foster care system, we must continue finding them loving temporary homes and, ultimately, safe and supportive permanent homes. My Administration is working to help States place more children with relatives and other trusted adults instead of in group homes. We are seeking to make it easier for biological parents to safely reunite with their children by providing these families with legal representation to help them navigate the complex child welfare system.

To make adoption and legal guardianship more manageable for families who could otherwise create safe and supportive homes, I have called for the adoption tax credit to be made fully refundable and proposed extending it to legal guardians—including grandparents, aunts, uncles, and other relatives. This would provide more breathing room to the kinship caregivers currently raising nearly one-third of all children in the foster care system, and it would also help reduce racial inequities in our country's child welfare system.

To further increase the number of loving families who can take in foster children, I issued an Executive Order removing barriers and combating biases that make it harder for LGBTQI+ families to foster and adopt. At the same time, we are working with State child welfare agencies to make sure LGBTQI+ youth are placed in supportive environments that see and value them for who they are.

Since coming to office, my Administration has worked hand-in-hand with States to help youth aging out of the foster care system to stay in school, participate in job training programs, pay their bills, and transition to adulthood. I have also expanded the Military Parental Leave Program, which enables service members to spend needed time with their families following a child's birth, adoption, or placement in long-term foster care. My latest Budget calls for $9 billion to provide housing vouchers to all 20,000 youth exiting foster care annually—a key step in helping them secure stable housing during this difficult transition. I have also called for an additional $1 billion to help youth aging out of foster care find a job, enroll in and afford higher education, obtain basic necessities, and access preventative health care.

One of my great privileges during my career in public service has been meeting some of the remarkable young people in foster care and their foster parents. I have seen what good foster care can do. Despite the challenges that no young person should ever have to face, loving foster families can help children become independent, confident, successful members of society and can be a critical resource to children and families in times of need. Ensuring that children who are separated from their families are placed in loving and supportive environments, while ensuring that as many families as possible have the resources they need to remain safely together, is a moral duty we all share and an investment in America's future that will pay dividends for generations to come.

This National Foster Care Month, we express our gratitude to every loving foster parent in America, and we acknowledge every young person navigating the child welfare system, unsure of what the future might hold. You can succeed, and my Administration will do all it can to provide you with the tools and resources you need and the secure, respectable upbringing you deserve to create a meaningful life.

NOW, THEREFORE, I, JOSEPH R. BIDEN JR., President of the United States of America, by virtue of the authority vested in me by the Constitution and the laws of the United States, do hereby proclaim May 2023 as National Foster Care Month. I call upon all Americans to observe this month by reaching out in their neighborhoods and communities to the children and youth in foster care and their families, to those at risk of entering foster care, and to kin families and other caregivers.

IN WITNESS WHEREOF, I have hereunto set my hand this twenty-eighth day of April, in the year of our Lord two thousand twenty-three, and of the Independence of the United States of America the two hundred and forty-seventh.

[FR Doc. 2023-09532

Filed 5-2-23; 8:45 am]

Billing code 3395-F3-P